DEPARTMENT OF TRANSPORTATION

Federal Railroad Administration

Agency Information Collection Activities

AGENCY: Federal Railroad Administration, DOT.

ACTION: Notice of OMB approvals.

SUMMARY: In compliance with the Paperwork Reduction Act of 1995 (44 U.S.C. 3501 et seq.) and 5 CFR 1320.5(b), this notice announces that new information collections requirements (ICRs) listed below have been approved by the Office of Management and Budget (OMB). These new ICRs pertain to 49 CFR parts 213, 216, 229, and 238. Additionally, FRA hereby announces that other ICRs listed below have been re-approved by the Office of Management and Budget (OMB). These ICRs pertain to parts 230, 241, and 260. The OMB approval numbers, titles, and expiration dates are included herein under SUPPLEMENTARY INFORMATION.

FOR FURTHER INFORMATION CONTACT: Mr. Robert Brogan, Office of Planning and Evaluation Division, RRS-21, Federal Railroad Administration, 1120 Vermont Ave., NW., Mail Stop 25, Washington, DC 20590 (telephone: (202) 493-6292), or Victor Angelo, Office of Support Systems, RAD-43, Federal Railroad Administration, 1120 Vermont Ave., NW., Mail Stop 35, Washington, DC 20590 (telephone: (202) 493-6470). (These telephone numbers are not toll-free.)

SUPPLEMENTARY INFORMATION: The Paperwork Reduction Act of 1995 (PRA), Public Law 104-13, § 2,109 Stat. 163 (1995) (codified as revised at 44 U.S.C. 3501-3520), and its implementing regulations, 5 CFR part 1320, require Federal agencies to display OMB control numbers and inform respondents of their legal significance once OMB approval is obtained. The following new FRA information collections were approved in the past four months: (1) OMB No. 2130-0010, Track Safety Standards (Continuous Welded Rail) (49 CFR 213) (Interim Final Rule). The expiration date for this collection of information is January 31, 2009. (2) OMB No. 2130-0544, Passenger Equipment Safety Standards (49 CFR 216, 229, and 238) (NPRM). The expiration date for this collection of information is March 31, 2009. (3) OMB No. 2130-0568, Emergency Order No. 24. The expiration date for this collection of information is June 30, 2006. (4) OMB No. 2130-0570, Work Schedules and Sleep Patterns of Railroad Dispatchers (Forms FRA F 6180.122 and FRA F 6180.123). The expiration date for this collection of information is February 28, 2009.

The following information collections were re-approved: (1) OMB No. 2130-0505, Inspection and Maintenance Standards for Steam Locomotives (49 CFR 230) (Forms FRA-1, FRA-2, FRA-3, FRA-4, FRA-5, FRA-19). The new expiration date for this information collection is February 28, 2009. (2) OMB No. 2130-0500, Accident/Incident Reporting and Recordkeeping (49 CFR 2225) (Forms FRA F 6180.54/55/55a/56/57/78/81/97/98/99/107). The new expiration date for this information collection is December 31, 2007. (3) OMB No. 2130-0548, Railroad Rehabilitation and Improvement Financing Program (49 CFR 260). The new expiration date for this information collection is February 28, 2009. (4) OMB No. 2130-0556, U.S. Locational Requirement for Dispatching U.S. Rail Operations (49 CFR 241). The new expiration date for this information collection is February 28, 2009.

Persons affected by the above referenced information collections are not required to respond to any collection of information unless it displays a currently valid OMB control number. These approvals by the Office of Management and Budget (OMB) certify that FRA has complied with the provisions of the Paperwork Reduction Act of 1995 (Pub. L. 104-13) and with 5 CFR 1320.5(b) by informing the public about OMB's approval of the information collection requirements of the above cited forms and regulations.

Authority: 44 U.S.C. 3501-3520.

Issued in Washington, DC on May 11, 2006.
Belinda Ashton,
Acting Director, Office of Budget, Federal Railroad Administration.

[FR Doc. E6-7517 Filed 5-17-06; 8:45 am]

BILLING CODE 4910-06-P